DEPARTMENT OF HEALTH AND HUMAN SERVICES

National Institutes of Health

Interagency Autism Coordinating Committee Call for Nominations

SUMMARY: The Office of the Secretary of the Department of Health and Human Services (HHS) is seeking nominations of individuals to serve as non-federal public members on the Interagency Autism Coordinating Committee. The Office of the Secretary has directed the Office of Autism Research Coordination (OARC) of the National Institute of Mental Health, National Institutes of Health to assist the Department in conducting an open and transparent nomination process.

DATES: Nominations are due by Friday, November 14, 2014.

ADDRESSES: Nominations must be sent to Dr. Susan Daniels, Director, Office of Autism Research Coordination/NIMH/NIH, 6001 Executive Boulevard, Room 6184, Bethesda, MD 20892 by standard or express mail, or via email to IACCPublicInquiries@mail.nih.gov.

FOR FURTHER INFORMATION CONTACT: Ms. Lina Perez, Office of Autism Research Coordination, National Institute of Mental Health via email to IACCPublicInquiries@mail.nih.gov.

SUPPLEMENTARY INFORMATION:

Call for Nominations

The Secretary of the Department of Health and Human Services (Secretary) is seeking nominations of individuals to serve as non-federal public members on the Interagency Autism Coordinating Committee (IACC), established in accordance with the Combating Autism Act of 2006 (Pub. L. 109-416) and reauthorized by the Autism Collaboration, Accountability, Research, Education and Support Act of 2014 (Pub. L. 113-157). The Secretary, who will make the final selections and appointments of non-federal public members of the IACC, has directed the Office of Autism Research Coordination (OARC) of the National Institute of Mental Health to assist the Department in conducting an open and transparent nomination process.

Eligibility

Nominations of new non-federal public members are encouraged, and current non-federal public members may also be re-nominated to continue to serve. Self-nominations and nominations of other individuals are both permitted. Only one nomination per individual is required. Multiple nominations for the same individual will not increase likelihood of selection. The Secretary may select non-federal public members from the pool of submitted nominations and other sources as needed to meet statutory requirements and to form a balanced committee that represents the diversity within the autism spectrum disorder (ASD) community (details below). Those eligible for nomination include leaders or representatives of major ASD research, advocacy and service organizations, parents or guardians of individuals with ASD, individuals on the autism spectrum, healthcare and service providers, educators, researchers and other individuals with professional or personal experience with ASD. In accordance with White House Office of Management and Budget guidelines (FR Doc. 2014-19140), federally-registered lobbyists are not eligible.

Committee Responsibilities

As specified in the Committee's authorizing statute (section 399CC of the Public Health Service Act, 42 U.S.C. 280i-2, as amended), the Committee will carry out the following responsibilities: (1) Monitor autism spectrum disorder research, and to the extent practicable, services and support activities, across all relevant Federal departments and agencies, including coordination of Federal activities with respect to autism spectrum disorder; (2) develop a summary of advances in autism spectrum disorder research related to causes, prevention, treatment, early screening, diagnosis or ruling out a diagnosis; interventions, including school and community-based interventions, and access to services and supports for individuals with autism spectrum disorder; (3) make recommendations to the Secretary regarding any appropriate changes to such activities, including with respect to the strategic plan; (4) make recommendations to the Secretary regarding public participation in decisions relating to autism spectrum disorder, and the process by which public feedback can be better integrated into such decisions; (5) develop a strategic plan for the conduct of, and support for, autism spectrum disorder research, including, as practicable, for services and supports, for individuals with an autism spectrum disorder and the families of such individuals, which shall include (A) proposed budgetary requirements; and (B) recommendations to ensure that autism spectrum disorder research, and services and support activities to the extent practicable, of the Department of Health and Human Services and of other Federal departments and agencies are not unnecessarily duplicative; and (6) submit to Congress and the President: (A) an annual update on the summary of advances; and (B) an annual update to the strategic plan, including any progress made in achieving the goals outlined in such strategic plan.

Committee Composition

In accordance with the Committee's authorizing statute, “Not more than ½, but not fewer than ⅓, of the total membership of the Committee shall be composed of non-Federal public members appointed by the Secretary.”

All non-Federal public members are appointed as Special Government Employees for their service on the IACC, of which:

• At least two such members shall be individuals with a diagnosis of autism spectrum disorder;

• At least two such members shall be parents or legal guardians of an individual with an autism spectrum disorder; and

• At least two such members shall be representatives of leading research, advocacy, and service organizations for individuals with autism spectrum disorder.

The Department strives to ensure that the membership of HHS Federal advisory committees is fairly balanced in terms of points of view represented and the committee's function. Every effort is made to ensure that the views of women, all ethnic and racial groups, and people with disabilities are represented on HHS Federal advisory committees and, therefore, the Department encourages nominations of qualified candidates from these groups. The Department also encourages geographic diversity in the composition of the Committee. Appointment to this Committee shall be made without discrimination on the basis of age, race, ethnicity, gender, sexual orientation, disability, and cultural, religious, or socioeconomic status. Requests for reasonable accommodation to enable participation on the Committee should be indicated in the nomination submission.

Member Terms

Non-Federal public members of the Committee “shall serve for a term of 4 years, and may be reappointed for one or more additional 4-year terms . . . Any member appointed to fill a vacancy for an unexpired term shall be appointed for the remainder of such term. A member may serve after the expiration of the member's term until a successor has been appointed.”

Meetings and Travel

“The Committee shall meet at the call of the chairperson or upon the request of the Secretary. The Committee shall meet not fewer than 2 times each year.”

In the years 2008-2014, the IACC held an average of 16 meetings, workshops and phone conferences per year, including full committee, subcommittee, working and planning group meetings, and workshops. Travel expenses are provided for non-federal public Committee members to facilitate attendance at in-person meetings. Members are expected to make every effort to attend all full committee and relevant subcommittee, working and planning group meetings, and workshops, either in person or via remote access options provided.

Submission Instructions and Deadline

Nominations are due by Friday, November 14, 2014 and may be sent to Dr. Susan Daniels, Director, Office of Autism Research Coordination/NIMH/NIH, 6001 Executive Boulevard, Room 6184, Bethesda, MD 20892 by standard or express mail, or via email to IACCPublicInquiries@mail.nih.gov. Nominations should include a cover letter of no longer than 3 pages describing the candidate's interest in seeking appointment to the IACC, including relevant personal and professional experience with ASD, as well as contact information and a current curriculum vitae or resume. Up to 2 letters of support are permitted in addition to the nomination, with a page limit of 3 pages per letter. Please do not include additional materials unless requested.

More information about the IACC is available at www.iacc.hhs.gov.

Dated: October 1, 2014.
Susan A. Daniels,
Director, Office of Autism Research Coordination, National Institute of Mental Health.

[FR Doc. 2014-24838 Filed 10-17-14; 8:45 am]

BILLING CODE 4140-01-P